NEIGHBORHOOD REINVESTMENT CORPORATION

Sunshine Act Meetings; Audit Committee Meeting

Time and Date: 3:30 p.m., Tuesday, May 23, 2023.

Place: 1255 Union Street NE, Fifth Floor, Washington, DC 20002. Or via ZOOM.

Status: Parts of this meeting will be open to the public. The rest of the meeting will be closed to the public.

Matters To Be Considered: Audit Committee Meeting.

The General Counsel of the Corporation has certified that in his opinion, one or more of the exemptions set forth in the Government in the Sunshine Act, 5 U.S.C. 552b (c)(2) and (4) permit closure of the following portion(s) of this meeting:

• Executive Session

Agenda

I. Call to Order

Open Session—Action Items

II. Sunshine Act Approval of Executive (Closed) Session

Executive (Closed) Session

III. Government Accountability Office (GAO) Report, Recommendations and Responses

IV. Other Matters

V. Adjournment

CONTACT PERSON FOR MORE INFORMATION: Lakeyia Thompson, Special Assistant, (202) 524-9940; Lthompson@nw.org.

Lakeyia Thompson,
Special Assistant.

[FR Doc. 2023-10806 Filed 5-17-23; 11:15 am]

BILLING CODE 7570-02-P